DEPARTMENT OF TRANSPORTATION

Federal Aviation Administration

14 CFR Part 71

[Docket No. FAA-2018-1002; Airspace Docket No. 18-AWP-23]

RIN 2120-AA66

Amendment of Class E Airspace: Madera, CA

AGENCY: Federal Aviation Administration (FAA), DOT.

ACTION: Final rule.

SUMMARY: This action modifies the Class E airspace extending upward from 700 feet above the surface at Madera Municipal Airport, Madera, CA, eliminates references to the Clovis and Friant Very High Frequency Omni-Directional Range/Tactical Air Navigation Aids (VORTAC) from the Airspace description, and updates the airport's geographic coordinates to match the FAA's aeronautical database. In addition, this action updates the airspace lateral dimensions to meet current requirements. This action supports the operation of Instrument flight Rules (IFR) under standard instrument approach and departure procedures in the National Airspace System.

DATES: Effective 0901 UTC, January 30, 2020. The Director of the Federal Register approves this incorporation by reference action under Title 1, Code of Federal Regulations, part 51, subject to the annual revision of FAA Order 7400.11 and publication of conforming amendments.

ADDRESSES: FAA Order 7400.11D, Airspace Designations and Reporting Points, and subsequent amendments can be viewed on line at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal_register/cfr/ibr_locations.html.

FOR FURTHER INFORMATION CONTACT: Richard Roberts, Federal Aviation Administration, Western Service Center, Operations Support Group, 2200 S. 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E airspace extending upward from 700 feet above the surface at Madera Municipal Airport, Madera, CA, and updates the airspace lateral dimensions to meet current requirements, to support IFR operations at the airport.

History

The FAA published a notice of proposed rulemaking in the Federal Register (84 FR 25205; May 31, 2019) DOCKET NO. FAA-2018-1002, to modify Class E airspace extending upward from 700 feet above the surface at Madera Municipal Airport, Madera, CA, and to update the airspace lateral dimensions to meet current requirements. Interested parties were invited to participate in this rulemaking effort by submitting written comments on the proposal to the FAA. The FAA received a single anonymous comment asking “[h]ow will this effect (sic) global warming?” The FAA does not find this a substantive comment to the proposal. The airspace does not control where aircraft fly but defines the area within which all aircraft operators are subject to operating rules and equipment requirements.

Class E airspace designations are published in paragraph 6005 of FAA Order 7400.11D, dated August 8, 2019, and effective September 15, 2019, which is incorporated by reference in 14 CFR 71.1. The Class E airspace designations listed in this document will be published subsequently in that Order. FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by modifying the Class E airspace extending upward from 700 feet above the surface at Madera Municipal Airport, Madera, CA, eliminating references to the Clovis and Friant Very High Frequency Omni-Directional Range/Tactical Air Navigation Aids (VORTAC) from the legal description, as they are no longer needed. This action also updates the airport's geographic coordinates to match the FAA's aeronautical database. Finally, this action updates the lateral dimensions to meet current airspace requirements by removing 4.4 miles of airspace extending to the southeast, adding 0.4 miles to the radius around the Airport Reference Point and adding a portion that extends 1 mile each side of the 316° bearing from the 4.4 mile radius to 1.5 miles northwest. This action supports the operation of Instrument Flight Rules (IFR) under standard instrument approach and departure procedures in the National Airspace System.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Given this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6005. Class E Airspace Areas Extending Upward From 700 Feet or More Above the Surface of the Earth.

* * * * *

AWP CA E5 Madera, CA [Amend]

Madera Municipal Airport, CA

(Lat. 36°59′11″ N., long. 120°06′45″ W.)

That airspace extending upward from 700 feet above the surface within a 4.4-mile radius of the Madera Municipal Airport and within 2.8 miles each side of the 112° bearing from the airport extending from the 4.4-mile radius to 6 miles southeast of the airport and that airspace 1.8 miles either side of the 80° bearing from a point in space, coordinates lat. 37° 01′ 29″ N., long. 120° 09′ 06″ W., extending from the 4.4 mile radius to 7.2 miles from the point in space coordinates and that airspace 1 mile either side of the 316° bearing from the Madera Municipal Airport extending from the 4.4-mile radius to 5.5 miles northwest.

Issued in Seattle, Washington, November 19, 2019.
Byron Chew,
Manager, Operations Support Group, Western Service Center.

[FR Doc. 2019-25540 Filed 11-27-19; 8:45 am]

BILLING CODE 4910-13-P